DEPARTMENT OF HEALTH AND HUMAN SERVICES

Food and Drug Administration

21 CFR Part 25

[Docket No. FDA-2013-N-1282]

National Environmental Policy Act; Environmental Assessments for Tobacco Products; Categorical Exclusions; Correction

AGENCY: Food and Drug Administration, HHS.

ACTION: Final rule; correction.

SUMMARY: The Food and Drug Administration (FDA or we) is correcting the preamble to a final rule that appeared in the Federal Register of September 24, 2015. This final rule provided FDA with categorical exclusions from the requirement to prepare environmental assessments for certain actions regarding the marketing of tobacco products under the Family Smoking Prevention and Tobacco Control Act (Tobacco Control Act). The final rule also included amendments to certain environmental impact regulations to include tobacco products, where appropriate, in light of its authority under the Tobacco Control Act.

The document published with technical errors in reference numbers cited in the document. This document corrects those errors. We are placing a corrected copy of the rule in the docket.

DATES: Effective on November 16, 2015.

FOR FURTHER INFORMATION CONTACT: Katherine Collins, Center for Tobacco Products, Food and Drug Administration, Document Control Center, Bldg. 71, Rm. G335, 10903 New Hampshire Ave., Silver Spring, MD 20993-0002, 877-287-1373, CTPRegulations@fda.hhs.gov.

SUPPLEMENTARY INFORMATION: FDA is correcting the preamble to the September 24, 2015 (80 FR 57531), final rule entitled, “National Environmental Policy Act; Environmental Assessments for Tobacco Products; Categorical Exclusions.” The document published with three technical errors in reference numbers cited in the document. This document corrects those errors. We are correcting reference 2 and adding new reference 3. We are also placing a corrected copy of the rule in the docket.

In FR Doc. 2015-24219, appearing on page 57531 in the Federal Register of Thursday, September 24, 2015 (80 FR 57531), FDA is making the following corrections:

1. On page 57533, in the second column, under the Response for Comment 1, add “(Ref. 3)” at the end of the second sentence.

2. On page 57535, in the first column, under section IX, “2. Statement of RADM David Ashley, Ph.D. and Hoshing Chang, Ph.D., ‘Impact of Tobacco Products on the Environment.’ ” is corrected to read “2. ‘Final Regulatory Impact Analysis,’ Food and Drug Administration, available at http://www.fda.gov/AboutFDA/ReportsManualsForms/Reports/EconomicAnalyses/default.htm.’

3. On page 57535, in the first column, under section IX, add “3. Statement of RADM David Ashley, Ph.D. and Hoshing Chang, Ph.D., ‘Impact of Tobacco Products on the Environment.’

Dated: November 9, 2015.
Leslie Kux,
Associate Commissioner for Policy.

[FR Doc. 2015-28848 Filed 11-13-15; 8:45 am]

BILLING CODE 4164-01-P